DEPARTMENT OF HEALTH AND HUMAN SERVICES

National Institutes of Health

Government-Owned Inventions; Availability for Licensing

AGENCY: National Institutes of Health, HHS.

ACTION: Notice.

SUMMARY: The invention listed below is owned by an agency of the U.S. Government and is available for licensing and/or co-development in the U.S. in accordance with 35 U.S.C. 209 and 37 CFR part 404 to achieve expeditious commercialization of results of federally-funded research and development. Foreign patent applications are filed on selected inventions to extend market coverage for companies and may also be available for licensing and/or co-development.

ADDRESSES: Invention Development and Marketing Unit, Technology Transfer Center, National Cancer Institute, 9609 Medical Center Drive, Mail Stop 9702, Rockville, MD 20850-9702.

FOR FURTHER INFORMATION CONTACT: Information on licensing and co-development research collaborations, and copies of the U.S. patent applications listed below may be obtained by contacting: Attn. Invention Development and Marketing Unit, Technology Transfer Center, National Cancer Institute, 9609 Medical Center Drive, Mail Stop 9702, Rockville, MD 20850-9702, Tel. 240-276-5515 or email ncitechtransfer@mail.nih.gov. A signed Confidential Disclosure Agreement may be required to receive copies of the patent applications.

SUPPLEMENTARY INFORMATION: Technology description follows.

Title of invention: Improved Pepper Spray for Repellency and Incapacitation.

Description of Technology: Non-lethal means of temporarily incapacitating a person are greatly needed for law enforcement and for personal protection. A common approach is to use pepper spray. Although current pepper sprays are effective, they cause pain for excessively long periods, and could be life threatening for people who suffer from asthma and have hypersensitive airways. This technology describes a composition for use in an aerosol or spray, that when administered, causes a painful stimulation and incapacitates a person for only a brief period. This technology may improve safety over currently available pepper sprays.

Potential Commercial Applications:

• Law enforcement (policing, riot control, crowd control)

• Incapacitating agent for use in hostage situations

• Personal self-defense

Value Proposition:

• Incapacitating pepper spray with reduced toxicity and enhanced safety.

• May reduce potential agency liability in case of an adverse response of an individual who was sprayed (due to reduced toxicity may not be as life threatening to those suffering from asthma or have hypersensitive airways as standard pepper sprays).

• Mixture can be incorporated into a spray, aerosol, or other dispersions.

Development Stage: Basic (Target ID).

Inventor(s): Peter M. Blumberg (NCI), Larry V. Pearce (NCI).

Intellectual Property:

HHS Reference No. E-048-2010/0.

U.S. Provisional Application 61/340,063 (HHS Reference No. E-048-2010/0-US-01) filed March 12, 2010 entitled, “Improved Pepper Spray for Repellency and Incapacitation of People and Animals”.

PCT Application PCT/US2011/028132 (HHS Reference No. E-048-2010/0-PCT-02) filed March 11, 2011 entitled, “Agonist/Antagonist Compositions and Methods of Use”.

Canada: Application 2,792, 878 (HHS Reference No. E-048-2010/0-CA-03) filed March 11, 2011 entitled, “Agonist/Antagonist Compositions and Methods of Use” (Pending).

U.S. Patent Application 13/634,447 (HHS Reference No. E-048-2010/0-US-04) filed September 12, 2012 entitled, “Agonist/Antagonist Compositions and Methods of Use”.

U.S. Patent Application 15/010,830 (HHS Reference No. E-048-2010/0-US-05) filed January 29, 2016 entitled, “Agonist/Antagonist Compositions and Methods of Use” (Pending).

Collaboration Opportunity: Researchers at the NCI seek licensing for use as a non-lethal incapacitation agent.

Contact Information: Requests for copies of the patent application or inquiries about licensing, research collaborations, and co-development opportunities should be sent to John D. Hewes, Ph.D., email: john.hewes@nih.gov.

Dated: May 11, 2016.
John D. Hewes,
Technology Transfer Specialist, Technology Transfer Center, National Cancer Institute.

[FR Doc. 2016-11555 Filed 5-16-16; 8:45 am]

BILLING CODE 4140-01-P